DEPARTMENT OF TRANSPORTATION

Federal Aviation Administration

14 CFR Part 39

[Docket No. 2003-NE-51-AD]

RIN 2120-AA64

Airworthiness Directives; Rolls-Royce Deutschland Ltd. & Co KG, Models Spey 555-15, 555-15H, 555-15N, and 555-15P Turbojet Engines

AGENCY: Federal Aviation Administration (FAA), DOT.

ACTION: Notice of proposed rulemaking (NPRM).

SUMMARY: The FAA proposes to adopt a new airworthiness directive (AD) for Rolls-Royce Deutschland Ltd. & Co KG (RRD), models Spey 555-15, 555-15H, 555-15N, and 555-15P turbojet engines, with magnesium split low pressure (LP) compressor case, part number (P/N) EU.73418A installed. This proposed AD would require replacement of the magnesium split LP compressor case with a serviceable compressor case that is a combination of a steel front LP compressor case and a shortened split compressor case. This proposed AD results from several reports of bird ingestion and LP stage 1 rotor blade failures that have resulted in penetration of the magnesium LP compressor case, and damage to the airplane. We are proposing this AD to prevent possible uncontained LP stage 1 rotor blade failures that could result in damage to the airplane.

DATES: We must receive any comments on this proposed AD by February 13, 2004.

ADDRESSES: Use one of the following addresses to submit comments on this proposed AD:

• By mail: Federal Aviation Administration (FAA), New England Region, Office of the Regional Counsel, Attention: Rules Docket No. 2003-NE-51-AD, 12 New England Executive Park, Burlington, MA 01803-5299.

• By fax: (781) 238-7055.

• By e-mail: 9-ane-adcomment@faa.gov.

You can get the service information identified in this proposed AD from Rolls-Royce Deutschland Ltd & Co KG, Eschenweg 11, D-15827 Dahlewitz, Germany, telephone +49 (0) 33-7086-1768; fax +49 (0) 33-7086-3356.

You may examine the AD docket, by appointment, at the FAA, New England Region, Office of the Regional Counsel, 12 New England Executive Park, Burlington, MA.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION:

Comments Invited

We invite you to submit any written relevant data, views, or arguments regarding this proposal. Send your comments to an address listed under ADDRESSES. Include “AD Docket No. 2003-NE-51-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

The Luftfahrt-Bundesamt (LBA), which is the airworthiness authority for Germany, recently notified the FAA that an unsafe condition may exist on RRD models Spey 555-15, 555-15H, 555-15N, and 555-15P turbojet engines. The LBA advises that several reports of bird ingestion and LP stage 1 rotor blade failures have resulted in penetration of the current design magnesium split LP compressor case, and damage to the airplane.

Relevant Service Information

Rolls-Royce Deutschland Service Bulletin (SB) No. Sp72-893, Revision 3, dated August 25, 2003, describes procedures for replacing the magnesium split LP compressor case, P/N EU.73418A, by reworking the front bearing housing and reworking certain affected brackets necessary, and installing Modification Kit Spey 5515. The kit contains a new design steel front case and shortened split compressor case.

FAA's Determination and Requirements of the Proposed AD

These RRD models Spey 555-15, 555-15H, 555-15N, and 555-15P turbojet engines, manufactured in Germany, are type-certificated for operation in the United States under the provisions of section 21.29 of the Federal Aviation Regulations (14 CFR 21.29) and the applicable bilateral airworthiness agreement. Pursuant to this bilateral airworthiness agreement, the LBA has kept us informed of the situation described above. We have examined the LBA's findings, reviewed all available information, and determined that AD action is necessary for products of this type design that are certificated for operation in the United States. Therefore, we are proposing this AD, which would require replacing the current design magnesium split LP compressor case with a serviceable compressor case that is a combination of a steel front case and a shortened split case, within 60 months after the effective date of the AD. The AD compliance time is based on comprehensive Rolls-Royce investigation and risk assessment results.

Changes to 14 CFR Part 39—Effect on the Proposed AD

On July 10, 2002, we issued a new version of 14 CFR part 39 (67 FR 47998, July 22, 2002), which governs the FAA's AD system. This regulation now includes material that relates to altered products, special flight permits, and alternative methods of compliance. This material previously was included in each individual AD. Since this material is included in 14 CFR part 39, we will not include it in future AD actions.

Costs of Compliance

There are about 184 RRD models Spey 555-15, 555-15H, 555-15N, and 555-15P turbojet engines of the affected design in the worldwide fleet. We estimate that 34 engines installed on airplanes of U.S. registry would be affected by this proposed AD. We also estimate that it would take about 6 work hours per engine to perform the proposed actions, and that the average labor rate is $65 per work hour. Required parts would cost about $37,000 per engine. Based on these figures, we estimate the total cost of the proposed AD to U.S. operators to be $1,271,260.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-51-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Rolls-Royce Deutschland Ltd. & Co KG: Docket No. 2003-NE-51-AD.

Comments Due Date

(a) The FAA must receive comments on this airworthiness directive (AD) action by February 13, 2004.

Affected ADs

(b) None.

Applicability

(c) This AD applies to Rolls-Royce Deutschland Ltd. & Co KG (RRD), models Spey 555-15, 555-15H, 555-15N, and 555-15P turbojet engines, with magnesium split low pressure (LP) compressor case, part number (P/N) EU.73418A installed. These engines are installed on, but not limited to, Fokker F.28 Mark 1000, Mark 2000, Mark 3000, and Mark 4000 series airplanes.

Unsafe Condition

(d) This AD is prompted by several reports of bird ingestion and LP stage 1 rotor blade failures that have resulted in penetration of the magnesium split LP compressor case and damage to the airplane. We are issuing this AD to prevent possible uncontained LP stage 1 rotor blade failures that could result in damage to the airplane.

Compliance

(e) You are responsible for having the actions required by this AD performed within 60 months after the effective date of this AD, unless the actions have already been done.

Replacement of Magnesium Split LP Compressor Case With a Serviceable Compressor Case

(f) Remove the magnesium split LP compressor case, P/N EU.73418A, from the engine and install a serviceable compressor case. Information on removing and replacing this P/N case can be found in RRD Service Bulletin (SB) No. Sp72-893, Revision 3, dated August 25, 2003.

Alternative Methods of Compliance

(g) The Manager, Engine Certification Office, has the authority to approve alternative methods of compliance for this AD if requested using the procedures found in 14 CFR 39.19.

Material Incorporated by Reference

(h) None.

Related Information

(i) LBA airworthiness directive 2003-261, dated August 25, 2003, also addresses the subject of this AD.

Issued in Burlington, Massachusetts, on December 5, 2003.
Jay J. Pardee,
Manager, Engine and Propeller Directorate, Aircraft Certification Service.

[FR Doc. 03-30851 Filed 12-12-03; 8:45 am]

BILLING CODE 4910-13-P